DEPARTMENT OF COMMERCE

Foreign-Trade Zones Board

[B-33-2014]

Foreign-Trade Zone (FTZ) 72—Indianapolis, Indiana, Notification of Proposed Production Activity, OHL Contract Logistics, LLC, (Kitting—Subassemblies and Parts for Heavy Trucks, Excavation Machinery), Plainfield, Indiana

OHL Contract Logistics, LLC (OHL), an operator of FTZ 72, submitted a notification of proposed production activity to the FTZ Board for its facility located in Plainfield, Indiana within FTZ 72. The notification conforming to the requirements of the regulations of the FTZ Board (15 CFR 400.22) was received on March 12, 2014.

The OHL facility is located within Site 16 of FTZ 72. The facility is used for the production of kits comprised of parts, components, and subassemblies for heavy trucks, excavation machinery, and related equipment. Pursuant to 15 CFR 400.14(b), FTZ authority would be limited to the specific foreign-status materials and components and specific finished products described in the submitted notification (as described below) and subsequently authorized by the FTZ Board.

Production under FTZ procedures could exempt OHL from customs duty payments on the foreign status materials/components used in export production. On its domestic sales, OHL would be able to choose the duty rates during customs entry procedures that apply to: Grease kits; sealant kits; antifreeze kits; plastic tube kits; plastic brake line guard kits; body down sensor kits; rubber hose kits; hydraulic breather hose kits; rubber gasket kits; seal kits; mount kits; mudguard kits; strut damper kits; manual (drawings, repair, decal) kits; mirror kits; insulation kits; drain plug kits; hoist support kits; fitting kits; plug assembly kits; fuel cap breather kits; metal tank/container/can kits; accumulator kits; steel fastener/nut/washer/ring/shim/clamp kits; steel isolator kits; bushing installation kits; crimper kits; tool kits; keys kits; hinge kits; mounting/fitting kits; service center line kits; steel tubing kits; oil drain kits; fuel line kits; shutdown kits; switch kits; housing kits; cover kits; gear kits; hydraulic motor parts kits; actuators kits; cylinder kits; engine seal kits; hydraulic pump kits; lubricating kits; bracket kits; air-conditioning compressor and mounting kits; blower kits; exhaust kits; rectifier enclosure kits; cooling duct-chassis kits; electrical kits; air-conditioning kits; heat exchanger kits; oil/fuel/air filter kits; load weigh kits; engine/transmission lift kits; jack kits; hoist kits; kingpin bushing kits; lift assembly kits; reduction valve kits; check/relief valve kits; valve repair kits; sample port kits; fast fuel kits; seal kits; fittings kits; hoist valve parts kits; hydraulic breather relocation kits; bearing assembly/repair kits; differential repair kits; PTO overhaul kits; bearing kits; roller/spider/carrier bearing repair kits; thrust washer kits; grid motor with air duct kits; electric/DC motor kits; rectifier repair kits; battery equalizer kits; battery cable kits; battery kits; disconnect switch kits; DC converter kits; magnetic cap kits; voltage regulator kits; gauge kits; headlight kits; flasher kits; backup alarm kits; windshield washer kits; hot start kits; engine heater kits; mine management telemetry kits; software diagnostic/update kits; smart card kits; radio-cassette kits; safety monitor retrofit kits; speed limiting kits; indicator light kits; indicator panel parts kits; grid box resistor update kits; circuit breaker kits; electrical switch kits; junction kits; regulator kits; terminal kits; electrical repair kits; instrumentation kits; diode installation kits; tail light kits; power cable kits; wiring harness kits; electrical kits; bearing hub isolator kits; wiring/electrical conduit kits; cab assembly kits; body parts/accessories kits; driveline kits; driveline guide kits; fan and belt kits; hoist valve parts kits; lever assembly kits; shield rework kits; steering upgrade kits; tank repair kits; tower assembly kits; track rod lug kits; transmission guard kits; brake part kits; shifter replacement kits; spindle kits; axle and parts kits; hydraulic tube kits; wheel kits; suspension seal kits; frame repair kits; radiator mount kits; exhaust kits; piston-ring kits; shift selector kits; handle assembly kits; driveshaft kits; steering kits; frame repair kits; PTO driveline kits; planetary kits; journal and shim kits; dust cap-seal kits; pump isolation kits; fuel tank/fittings kits; fuel tank vent hose kits; frame re-work kits; fall protection kits; inverter plate installation kits; cab connector guard kits; hydraulic tank kits; coolant tube kits; air duct kits; air inlet silencer kits; anchor shackle kits; high arc re-work kits; yoke assembly kits; tank breather kits; hoist cylinder kits; fluid level sensor kits; transducer kits; temperature gauge kits; fuel level kits; speedometer/tachometer kits; instrument conversion kits; electrical current instrument kits; body angle sensor kits; camera kits; controller kits; and, seat kits (duty rate ranges from free-9.0%; 12¢/doz+5.5%) for the foreign status materials/components noted below. Customs duties also could possibly be deferred or reduced on foreign status production equipment.

The materials/components sourced from abroad include: Greases; nitrogen cartridges; primers; solvents; sealing compounds; lubricants; anti-seize pastes; adhesives; refrigerants; anti-freeze/coolants; plastic tubing/shrink/hose assemblies/tapes/protectors/handles/knobs/packing-sealing materials/assemblies/rings/o-rings/seals/ring wear/moldings/ring backs/guides/wipers/rods/bases/seal steps/packing materials/v-belts/cable ties/boots/louvers/sleeves/fuel tanks/caps; rubber pads/tapes/mudguards/belts/hoses and assemblies/fittings/brake hoses/fasteners/sound insulators/gaskets/washers/seals/covers/guards/mounts/vibration mounts/moldings/air baffles/dampers/valves/bushings/boots/valve vacuators; tool bags of textile materials (HTSUS Subheading 4202.12); paper marker wire (labels)/gaskets; service bulletins; instruction manuals; drawings; cards; schematics; transfers; decals; Mylar films; felt hoses/seals/pads/covers; ducts; looms; gaskets; abrasive strips; insulation blankets; exhaust blankets; brake linings/pads; carbon fiber gaskets; glass; mirrors; fiberglass covers; steel bars/wires/caps/tubes/weldments/fittings/unions/flanges/tanks/accumulators/tie wires/rings/cable strands/springs/bushings; locks; fasteners (screws, bolts, nuts, pins, cotter pins); spacers; steel rods/clamps/plugs/threaded inserts/gaskets/shackles; copper fittings/washers/plugs/up rings; aluminum manifold blocks/tubes/caps/plates; hand tools; clamps and related assemblies; service tool kits; gauges; locks/keys; hinges; base metal mountings and fittings; latches; supports; brackets; bracket/mount/clamp assemblies; steel flex tubing; plates; name plates and related assemblies; yokes; hydraulic cylinders and related parts; electric motors; pumps/pump kits and parts; compressors; fans; rectifier enclosures; air-conditioning/heat units/clutches; condensing units; drain hose kits; actuators; coolers; filters; air cleaners; elements; breather vents; haultronics kits; fire suppression system parts; engine/transmission lifts; lifter weldments; drills; data cables/adapters; converters; valves and assemblies; valve covers; tie rods; controllers; manifolds; solenoids; hand taps; bearings and related assemblies; cups; cones; shafts; driveshafts; cranks; bushings; gears; couplings; hubs; pulleys and related adapters; pinions; motors (e.g., grid box, traction) and related parts; transformers; converters; wiring harnesses; battery equalizers; connectors; rectifiers and covers; arc chute kits; magnetic caps; batteries; cable assemblies; controllers and panels; lamps; headlamps; tail lamps; parts of lighting equipment; indicators; horns; load weigh assembly boxes; alarms; lenses; flashers; telemetry devices; interface cables; cameras and related harnesses; radios; monitors; displays; speed limiters; indicator boxes; voltage sensors; potentiometers; fuses and holders; circuit breakers; relays; modules; socket assemblies; blocks; terminals; splices; buss bars; contacts; receptacles; isolators and related assemblies; junction boxes; jumpers; panels; ECUs; electrical cables; loadweigh equipment; boards; moldings; FPGA cards; conduits; camera cables; sub-cabs; air baffles; retainers; straps; stamped body parts (e.g., boxes, fenders, guards); bands; deflectors; machining daggers; heat shields; disks and locators; levers; door/body templates; sheet metal walkways; fuel lines; gussets; keepers; anchors; platforms; channels; support frames; sleeves; housings; grilles; frame parts and lugs; handles; steps; tank protective parts; brakes and related parts; ring seals; oil pans; strips; shims; drive axles and related parts; road wheels and related parts; rings; guides; air coolers; mufflers; exhaust parts; engine parts (e.g., pistons, rings); cylinders; sockets; steering parts; fuel tanks; hydraulic tanks; insulated boxes; sensors (e.g., fluid, velocity, pressure, temperature); transducers; senders; tachometers; testing instruments; loadweigh equipment; thermostats; grommets; puller plate assemblies; tool assemblies; outlet sections; plungers; arms; links; pivots; heaters; resistors; switches; electrical plugs; electrical boxes; warning systems; software; balls-electrical; diodes; integrated circuit parts; electrical sensors/brushes/brush holders/brush springs/insulation/insulators; motor vehicle parts (bars, covers, pads, weldments, rods, tubes, angles, bases, drums); power train parts; tube assemblies; sensor assemblies; and, seats and related supports (duty rate ranges from free to 9.9%, 12¢/doz+5.5%). Inputs included in certain textile categories (classified within HTSUS Subheading 4202.12) will be admitted to the zone under domestic (duty-paid) status or privileged foreign status (19 CFR 146.41), thereby precluding inverted tariff benefits on such items.

Public comment is invited from interested parties. Submissions shall be addressed to the FTZ Board's Executive Secretary at the address below. The closing period for their receipt is May 13, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For Further Information Contact: Pierre Duy at Pierre.Duy@trade.gov, (202) 482-1378.

Dated: March 27, 2014.
Andrew McGilvray,
Executive Secretary.

[FR Doc. 2014-07483 Filed 4-2-14; 8:45 am]

BILLING CODE 3510-DS-P